INTERNATIONAL TRADE COMMISSION

[Investigation Nos. 731-TA-471 and 472 (Second Review)]

Silicon Metal From Brazil and China

AGENCY: United States International Trade Commission.

ACTION: Revised schedule for the subject investigations.

DATES: Effective Date: July 11, 2006.

FOR FURTHER INFORMATION CONTACT: Karen Taylor (202-708-4101), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: On May 2, 2006, the Commission established a schedule for the conduct of the final phase of the subject investigations (71 FR 26783, May 8, 2006). Subsequently, the Commission found it necessary to revise the schedule.

The Commission's new schedule for the investigations is as follows: requests to appear at the hearing must be filed with the Secretary to the Commission not later than September 12, 2006; the prehearing conference will be held at the U.S. International Trade Commission Building at 9:30 a.m. on September 15, 2006; the prehearing staff report will be placed in the nonpublic record on August 30, 2006; the deadline for filing prehearing briefs is September 12, 2006; the hearing will be held at the U.S. International Trade Commission Building at 9:30 a.m. on September 19, 2006; the deadline for filing posthearing briefs is October 6, 2006; the Commission will make its final release of information on October 31, 2006; and final party comments are due on November 2, 2006.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: July 12, 2006.
By order of the Commission.
Marilyn R. Abbott,
Secretary to the Commission.

[FR Doc. E6-11273 Filed 7-14-06; 8:45 am]

BILLING CODE 7020-02-P